NATIONAL LABOR RELATIONS BOARD

Amendment of Statement of Organization and Functions; Restructuring of National Labor Relations Board's Field Organization

AGENCY: National Labor Relations Board.

ACTION: Notice of administrative change in status of the Anchorage, Alaska Resident Office (Region 19) of the National Labor Relations Board, which has been closed and the area will be served by agents working from other locations.

SUMMARY: The National Labor Relations Board has closed its Anchorage, Alaska Resident Office because it has determined that closing the office and serving the area with resident agents working in the area, will result in significant savings while continuing to effectively serve the area currently served by this office.

DATES: Applicable Date: The change with respect to the Anchorage, Alaska office was announced by press release on December 11, 2017 and was effective December 29, 2017.

FOR FURTHER INFORMATION CONTACT: Roxanne Rothschild, Deputy Executive Secretary, 1015 Half Street SE, Room 5011, Washington, DC 20570. Telephone: (202) 273-1940.

SUPPLEMENTARY INFORMATION: The National Labor Relations Board has closed its Anchorage Resident Office and now services the area through full-time Resident Agents. This change was prompted by an examination of the staffing, caseloads, and rental and operating costs for the Anchorage office. This revision is nonsubstantive or merely procedural in nature. The Board expects no adverse impact on the quality of casehandling as a result of the office closure.

Region 19, which handles cases arising in Alaska, is headed by a Regional Director, who works in the Seattle, Washington Regional office and has full authority for the processing of both unfair labor practice and representation cases in that area. Currently, the other employees in this Region work in Seattle, Washington and Portland, Oregon. The Seattle and Portland offices will continue to be open. The geographical area covered by the Region will not be changed.

The most recent list of Regional and Subregional Offices was published at 65 FR 53228-53229 on August 29, 2000, as amended at 78 FR 44602-44603 on Wednesday, July 24, 2012.

Concurrent with this Notice, the NLRB is revising its Statement of Organization and Functions to delete reference to the Anchorage office as a place where persons can obtain service in Region 19. The revision to the Board's Statement of Organization and Functions is attached.

Since July 20, 2017, the NLRB has solicited and received feedback on the proposed closure of the Anchorage, Alaska office. The decision to close this office and restructure the Agency's operations in the manner set forth here was informed by comments from stakeholders. Because this is a general notice that is related to the organization of the NLRB, it is not a regulation or rule subject to Executive Order 12866.

Pursuant to the change set forth here, the National Labor Relations Board has amended its Statement of Organization and Functions as follows:

Part 201—Description of Organization

Subpart B—Description of Field Organization

(A) “Areas Served by Regional and Subregional Offices” is amended in following manner:

(1) Region 19 is amended to read as follows:

Region 19. Seattle, Washington. Services Alaska and all counties in Washington except Clark; in Idaho, services Adams, Benewah, Bonner, Boundary, Clark, Clearwater, Custer, Fremont, Idaho, Kootenai, Latah, Lemhi, Lewis, Nez Perce, Shoshone, and Valley Counties; and in Montana, services Beaverhead, Broadwater, Cascade, Deer Lodge, Flathead, Gallatin, Glacia, Granite, Jefferson, Lake, Lewis, and Clark, Liberty, Lincoln, Madison, Meagher, Mineral, Missoula, Pondera, Powell, Ravatti, Sanders, Silver Bow, Teton, and Toole Counties.

Subregion 36. Portland, Oregon. Services Oregon and Clark County in Washington.

Persons may also obtain service from a Resident Agent located in Anchorage, Alaska.

By Direction of the Board.
Dated: January 26, 2018.
Roxanne Rothschild,
Deputy Executive Secretary.

[FR Doc. 2018-01921 Filed 1-30-18; 8:45 am]

BILLING CODE 7545-01-P